COMMISSION ON CIVIL RIGHTS

Notice of Public Briefing of the California Advisory Committee; Update

AGENCY: Commission on Civil Rights.

ACTION: Notice; revision to meeting type, update time and agenda.

SUMMARY: The Commission on Civil Rights published a notice in the Federal Register on Wednesday, April 6, 2022, concerning a web briefing of the California Advisory Committee.

FOR FURTHER INFORMATION CONTACT: Brooke Peery, bpeery@usccr.gov.

Update: In the Federal Register on Wednesday, April 6, 2022, in FR Document Number 2022-07262, on page 19852, first and second columns, change the May 16, 2022, web Briefing into a Business Meeting.

Date: Monday, May 16, 2022, from 1:30 p.m. to 3:00 p.m. Pacific Time.

Webex Registration Link: https://tinyurl.com/mrfyk6xn.

Agenda

I. Welcome & Roll Call

II. Approval of Minutes

III. Committee Discussion

IV. Public Comment

V. Adjournment

Dated: May 5, 2022.
David Mussatt,
Supervisory Chief, Regional Programs Unit.

[FR Doc. 2022-09975 Filed 5-9-22; 8:45 am]

BILLING CODE P